DEPARTMENT OF HOUSING AND URBAN DEVELOPMENT

Office of the Assistant Secretary for Public and Indian Housing

[Docket No. FR-4570-C-03]

Notice of Funding Availability for Fair Share Allocation of Incremental Voucher Funding Fiscal Year 2000; Correction to NOFA Regarding Residency Preference and Extension of Application Period

AGENCY: Office of the Assistant Secretary for Public and Indian Housing, HUD.

ACTION: Notice of Fund Availability (NOFA); Correction of NOFA and Extension of Application Period.

SUMMARY: On March 10, 2000, HUD published its FY 2000 NOFA for Fair Share Allocation of Incremental Voucher Funding (“Fair Share NOFA”). The selection criteria of the NOFA were amended by notice published on May 18, 2000, to better reflect the appropriate weight in points that should have been assigned to the “housing needs” selection criterion so that need is the most important basis for allocating incremental voucher funding. The May 18, 2000 amendatory notice also reopened the application period for the Fair Share NOFA. The May 18, 2000 notice provided for a new application due date of June 19, 2000. This notice corrects the percentage listed in the residency preference subcategory of Selection Criterion 2. The percentage listed in the May 18, 2000, notice was 15% and the percentage should have been inserted was 50%. This document makes that correction, and also extends the application due date further—30 days from the date of publication of this notice.

DATES: Applications are due on July 19, 2000. Applicants that already submitted applications need not resubmit a new application, and need not amend their applications. Applicants that already submitted applications, however, may submit new or amended applications if they so choose.

SUPPLEMENTARY INFORMATION:

Background—March 10, 2000 NOFA

If you are interested in applying for funding under the Fair Share NOFA, and did not apply earlier, please review the entire Fair Share NOFA, published on March 10, 2000 (65 FR 13222), as amended by the notice published on May 18, 2000 (65 FR 31584). Except for the additional correction made by this document and the extension of the application due, all other provisions of the March 10, 2000, Fair Share NOFA, as amended on May 18, 2000, are unchanged and remain applicable.

The March 10, 2000 Fair Share NOFA will provide you with detailed information regarding the submission of an application, Section 8 program requirements, the application selection process to be used by HUD in selecting applications for funding, and other valuable information relative to a PHA's application submission and participation in the program covered by this NOFA. The March 10, 2000 Fair Share NOFA is also available on HUD's internet site at http://www.hud.gov under “Funds Available.” This Federal Register notice amending the March 10, 2000 Fair Share NOFA is also available at the same HUD web site.

Correction Made by this Notice

This notice corrects an error made in the publication of the May 18, 2000, notice. The May 18, 2000 notice amended the selection criteria in Section IV of the March 10, 2000 Fair Share NOFA primarily to better reflect the appropriate weight in points that should have been assigned to the “housing needs” selection criterion so that need is the most important basis for allocating incremental voucher funding. Weights of other criteria were reduced accordingly. The May 18, 2000, notice also revised or removed two selection criteria that do not assess a public housing agency's housing needs and are otherwise problematic. The revision made by the May 18, 2000 notice was to the residency preference subcategory in selection criterion 2 of the NOFA. That subcategory was altered to provide for the assignment of points to PHAs that will limit applicability of residency preferences to 15% of all new admissions to the program, as well as to those PHAs that do not have a residency preference or agree to eliminate one. This change was made in recognition that some PHAs with legally adopted residency preferences and great housing needs would have been penalized by the language provided in the March 10, 2000, Fair Share NOFA. The applicability of residency preferences to 15% of all new admissions was incorrect. The percentage limitation was intended to be 50%.

This notice published in today's edition of the Federal Register makes that correction and provides for an additional extension of the application due date, which is 30 days from the date of today's publication.

This notice does not repeat the application submission information. That information was set out in the March 10, 2000 NOFA (64 FR 13222) and also the May 18, 2000 amendatory notice (65 FR 31584).

As noted earlier, applicants that already submitted applications by the original application due date of April 24, 2000, or the extended due date of June 19, 2000, need not resubmit a new application, and need not amend their applications. Applicants that have provided a certification which would have entitled them to points with respect to residency preferences, and that still will comply with the certification they provided, need not submit a further certification to receive the points. Applicants that already submitted applications, however, may submit new or amended applications if they so choose.

Submission of new or amended applications should clearly identify the name of the applicant, the applicant HA code (e.g. CA002), and whether the information submitted is new and replaces a previously submitted application in its entirety or is an addendum to the previously submitted application.

Accordingly, in the FY 2000 NOFA for Fair Share Allocation of Incremental Voucher Funding, notice document 00-6027, beginning at 65 FR 13222, in the issue of Friday, March 10 2000, as amended by the notice published on May 18, 2000, beginning at 65 FR 31584, the following correction is made to Selection Criterion 2 (Efforts of PHA to Provide Area-Wide Housing Opportunities for Families), the second full paragraph under paragraph (b) of Selection Criterion 2:

IV. Fair Share Application Rating Process

* * * * *

(2) Selection Criterion 2: Efforts of PHA to Provide Area-Wide Housing Opportunities for Families (30 points).

* * * * *

• 5 Points—Assign 5 points if the PHA certifies that (i) its administrative plan does not include a “residency preference” for selection of families to participate in its voucher program, or (ii) it will eliminate immediately any “residency preference” currently in its administrative plan, or (iii) it will limit applicability of residency preferences to 50% of all new admissions to the voucher program.

* * * * *

Dated: June 13, 2000.
Harold Lucas,
Assistant Secretary for Public and Indian Housing.

[FR Doc. 00-15365 Filed 6-16-00; 8:45 am]

BILLING CODE 4210-33-P